DEPARTMENT OF ENERGY

Federal Energy Regulatory Commission

Combined Notice of Filings #1

Take notice that the Commission received the following exempt wholesale generator filings:

Docket Numbers: EG26-121-000.

Applicants: MEP Edinburg BESS LLC.

Description: MEP Edinburg BESS LLC submits Notice of Self-Certification of Exempt Wholesale Generator Status.

Filed Date: 1/6/26.

Accession Number: 20260106-5170.

Comment Date: 5 p.m. ET 1/27/26.

Docket Numbers: EG26-122-000.

Applicants: MEP Palmview BESS LLC.

Description: MEP Palmview BESS LLC submits Notice of Self-Certification of Exempt Wholesale Generator Status.

Filed Date: 1/6/26.

Accession Number: 20260106-5171.

Comment Date: 5 p.m. ET 1/27/26.

Docket Numbers: EG26-123-000.

Applicants: MEP Cotulla Bess LLC.

Description: MEP Cotulla Bess LLC submits Notice of Self-Certification of Exempt Wholesale Generator Status.

Filed Date: 1/6/26.

Accession Number: 20260106-5172.

Comment Date: 5 p.m. ET 1/27/26.

Take notice that the Commission received the following electric rate filings:

Docket Numbers: ER10-1910-031; ER10-1911-031.

Applicants: Duquesne Power, LLC, Duquesne Light Company.

Description: Triennial Market Power Analysis for Northeast Region of Duquesne Light Company, et al.

Filed Date: 12/31/25.

Accession Number: 20251231-5499.

Comment Date: 5 p.m. ET 3/2/26.

Docket Numbers: ER10-2042-057; ER10-1862-050; ER10-1877-014; ER10-1893-050; ER10-1934-050; ER10-1938-051; ER10-1942-048; ER10-2985-054; ER10-3049-055; ER10-3051-055; ER11-4369-035; ER16-2218-036; ER17-696-036; ER23-944-013.

Applicants: Calpine Community Energy, LLC, Calpine Energy Solutions, LLC, North American Power Business, LLC, North American Power and Gas, LLC, Champion Energy, LLC, Champion Energy Services, LLC, Champion Energy Marketing LLC, Calpine Construction Finance Co., L.P., Calpine Power America—CA, LLC, CES Marketing IX, LLC, CES Marketing X, LLC, Hermiston Power, LLC, Power Contract Financing, L.L.C., Calpine Energy Services, L.P.

Description: Triennial Market Power Analysis for Northwest Region of Calpine Energy Services, L.P., et al.

Filed Date: 12/31/25.

Accession Number: 20251231-5498.

Comment Date: 5 p.m. ET 3/2/26.

Docket Numbers: ER10-2822-031; ER10-1291-028; ER10-1725-007; ER10-2285-010; ER10-2301-007; ER10-2306-007; ER10-2404-013; ER10-2423-013; ER10-2812-021; ER10-2828-010; ER10-2843-020; ER10-3001-009; ER10-3002-010; ER10-3004-011; ER10-3010-010; ER10-3031-010; ER10-3160-007; ER11-2112-014; ER12-96-013; ER12-422-010; ER12-2649-008; ER16-1637-006; ER16-2285-008; ER17-1241-004; ER19-2361-005; ER20-2830-002; ER23-2336-001; ER23-2554-002; ER25-711-001; ER25-1093-001; ER13-1058-002.

Applicants: Iberdrola Renewables, LLC, Osagrove Flats Wind, LLC, Powell Creek Solar, LLC, Midland Wind, LLC, Vineyard Wind 1 LLC, PPM Roaring Brook, LLC, Otter Creek Wind Farm LLC, Deerfield Wind, LLC, Desert Wind Farm LLC, UIL Distributed Resources, LLC, Groton Wind, LLC, New England Wind, LLC, South Chestnut LLC, Blue Creek Wind Farm LLC, The United Illuminating Company, Streator-Cayuga Ridge Wind Power LLC, Providence Heights Wind, LLC, Locust Ridge Wind Farm II, LLC, Locust Ridge Wind Farm, LLC, Lempster Wind, LLC, GenConn Middletown LLC, Casselman Windpower LLC, GenConn Devon LLC, Flat Rock Windpower LLC, Flat Rock Windpower II LLC, Rochester Gas and Electric Corporation, New York State Electric & Gas Corporation, Central Maine Power Company, Hardscrabble Wind Power LLC, GenConn Energy LLC, Atlantic Renewable Projects II LLC.

Description: Triennial Market Power Analysis for Northeast Region of Atlantic Renewable Projects II LLC, et al.

Filed Date: 12/30/25.

Accession Number: 20251230-5493.

Comment Date: 5 p.m. ET 3/2/26.

Docket Numbers: ER10-3079-024; ER11-2539-009; ER11-2540-009; ER11-2542-009.

Applicants: Rathdrum Power, LLC, Plains End II, LLC, Plains End, LLC, Tyr Energy LLC.

Description: Triennial Market Power Analysis for Northwest Region of Tyr Energy LLC, et al.

Filed Date: 12/31/25.

Accession Number: 20251231-5493.

Comment Date: 5 p.m. ET 3/2/26.

Docket Numbers: ER12-1316-010; ER11-2753-011.

Applicants: Cedar Point Wind, LLC, Silver State Solar Power North, LLC.

Description: Triennial Market Power Analysis for Northwest Region of Silver State Solar Power North, LLC, et al.

Filed Date: 12/31/25.

Accession Number: 20251231-5495.

Comment Date: 5 p.m. ET 3/2/26.

Docket Numbers: ER20-2444-008; ER20-2445-008.

Applicants: Prineville Solar Energy LLC, Millican Solar Energy LLC.

Description: Triennial Market Power Analysis for Northwest Region of Millican Solar Energy LLC, et al.

Filed Date: 12/31/25.

Accession Number: 20251231-5496.

Comment Date: 5 p.m. ET 3/2/26.

Docket Numbers: ER24-55-002.

Applicants: Silver Peak Energy, LLC.

Description: Supplement to 12/09/2025, Notice of Non-Material Change in Status of Silver Peak Energy, LLC.

Filed Date: 1/6/26.

Accession Number: 20260106-5173.

Comment Date: 5 p.m. ET 1/27/26.

Docket Numbers: ER24-139-002; ER10-2383-015; ER10-2384-013; ER10-2394-010; ER10-2395-010; ER14-2820-013; ER14-2821-013; ER16-853-008; ER16-855-008; ER16-856-008; ER16-857-008; ER16-858-008; ER16-860-008; ER16-861-008; ER17-1217-008; ER19-1200-015; ER20-2014-004; ER24-171-001; ER25-687-001; ER25-2809-001; ER25-3144-001; ER25-3426-001; ER25-3427-001.

Applicants: Granite Mountain BESS East LLC, Enterprise Storage LLC, Escalante BESS I LLC, Iron Springs BESS LLC, Washington Wind LLC, Skysol, LLC, Rattlesnake Flat, LLC, Clearway Power Marketing LLC, Total Gas & Power North America, Inc., Iron Springs Solar, LLC, Granite Mountain Solar West, LLC, Granite Mountain Solar East, LLC, Escalante Solar III, LLC, Escalante Solar II, LLC, Escalante Solar I, LLC, Enterprise Solar, LLC, Spring Canyon Energy III LLC, Spring Canyon Energy II LLC, Colorado Power Partners, BIV Generation Company, L.L.C., Mountain Wind Power, LLC, Mountain Wind Power II LLC, Cedar Creek Wind, LLC.

Description: Triennial Market Power Analysis for Northwest Region of Cedar Creek Wind, LLC, et al.

Filed Date: 12/30/25.

Accession Number: 20251230-5495.

Comment Date: 5 p.m. ET 3/2/26.

Docket Numbers: ER24-1879-001; ER20-1604-005; ER11-3808-010; ER11-3980-010; ER12-128-011; ER13-413-011; ER13-2103-008; ER14-325-010; ER15-2330-007; ER17-2471-008; ER17-2472-008; ER17-2548-003; ER18-664-008; ER18-2013-008; ER18-2435-007; ER23-1238-004; ER23-1239-004; ER25-765-001.

Applicants: Beowawe Power, LLC, USG Nevada LLC, ORNI 36 LLC, ORNI 41 LLC, Terra-Gen Dixie Valley, LLC, Steamboat Hills LLC, EGP Stillwater Solar PV II, LLC, ONGP LLC, ORNI 43 LLC, ORNI 37 LLC, Enel Cove Fort, LLC, ORNI 47 LLC, USG Oregon LLC, EGP Stillwater Solar, LLC, ORNI 14 LLC, ORNI 39, LLC, EF Oxnard LLC, Ormat Stillwater LLC.

Description: Triennial Market Power Analysis for Northwest Region of Ormat Stillwater LLC, et al.

Filed Date: 12/31/25.

Accession Number: 20251231-5494.

Comment Date: 5 p.m. ET 3/2/26.

Docket Numbers: ER26-955-000.

Applicants: PJM Interconnection, L.L.C.

Description: § 205(d) Rate Filing: Ministerial Clean-Up Filing to Rate Schedule 48 to be effective 12/1/2018.

Filed Date: 1/6/26.

Accession Number: 20260106-5157.

Comment Date: 5 p.m. ET 1/27/26.

Docket Numbers: ER26-956-000.

Applicants: IP Easley II, LLC.

Description: Initial Rate Filing: Certificates of Concurrence to SFA and Co-Tenancy Agreements to be effective 1/7/2026.

Filed Date: 1/6/26.

Accession Number: 20260106-5163.

Comment Date: 5 p.m. ET 1/27/26.

Docket Numbers: ER26-957-000.

Applicants: Nevada Power Company.

Description: § 205(d) Rate Filing: Concurrence in Co Bar Solar LGIA (APS Designated) to be effective 2/1/2026.

Filed Date: 1/7/26.

Accession Number: 20260107-5001.

Comment Date: 5 p.m. ET 1/28/26.

Docket Numbers: ER26-958-000.

Applicants: Mid-Atlantic Interstate Transmission, LLC.

Description: § 205(d) Rate Filing: MAIT submits Amended IA, SA No. 4577 to be effective 3/9/2026.

Filed Date: 1/7/26.

Accession Number: 20260107-5017.

Comment Date: 5 p.m. ET 1/28/26.

Docket Numbers: ER26-959-000.

Applicants: Tri-State Generation and Transmission Association, Inc.

Description: Petition for Limited Waiver of Tri-State Generation and Transmission et al.

Filed Date: 12/22/25.

Accession Number: 20251222-5457.

Comment Date: 5 p.m. ET 1/12/26.

Docket Numbers: ER26-960-000.

Applicants: Southwest Power Pool, Inc.

Description: § 205(d) Rate Filing: 4575 Blue Valley Grid GIA to be effective 12/10/2025.

Filed Date: 1/7/26.

Accession Number: 20260107-5051.

Comment Date: 5 p.m. ET 1/28/26.

Docket Numbers: ER26-961-000.

Applicants: Central Maine Power Company, ISO New England Inc.

Description: § 205(d) Rate Filing: Central Maine Power Company submits tariff filing per 35.13(a)(2)(iii: CMP PBOP to be effective 3/9/2026.

Filed Date: 1/7/26.

Accession Number: 20260107-5052.

Comment Date: 5 p.m. ET 1/28/26.

Docket Numbers: ER26-962-000.

Applicants: ITC Great Plains, LLC, Southwest Power Pool, Inc.

Description: § 205(d) Rate Filing: ITC Great Plains, LLC submits tariff filing per 35.13(a)(2)(iii: 4587 Plum Nellie & ITC Great Plains Facilities Service Agr to be effective 3/9/2026.

Filed Date: 1/7/26.

Accession Number: 20260107-5053.

Comment Date: 5 p.m. ET 1/28/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 7, 2026.
Debbie-Anne A. Reese,
Secretary.

[FR Doc. 2026-00400 Filed 1-12-26; 8:45 am]

BILLING CODE 6717-01-P